DEPARTMENT OF DEFENSE

Department of the Navy

Notice of Availability of Government-Owned Inventions; Available for Licensing

AGENCY: Department of the Navy, DOD.

ACTION: Notice.

SUMMARY: The inventions listed below are assigned to the United States Government as represented by the Secretary of the Navy and are available for licensing by the Department of the Navy. U.S. Patent No. 6,731,922: Optical Image Reject Down Converter, Navy Case No. 82,545.//U.S. Patent No. 6,733,838: Robust Nontoxic Antifouling Elastomers, Navy Case No. 83,029.//U.S. Patent No. 6,734,043: Pressure-bonded Heat Sink Method, Navy Case No. 83,954.//U.S. Patent No. 6,737,793: Apparatus for Emitting Electrons Comprising a Subsurface Emitter Structure, Navy Case No. 80,023.//U.S. Patent No. 6,744,035: Passive, Temperature Compensated Techniques for Tunable Filter Calibration in Bragg-grating Interrogation Systems, Navy Case No. 82,373.//U.S. Patent No. 6,744,947: High Power, Low Noise, Fluorescent Device and Methods Related Thereto, Navy Case No. 79,056.//U.S. Patent No. 6,744,986: Tunable Wavelength Add/Drop Multiplexer Based on Integrated Optic Devices, Navy Case No. 82,310.//U.S. Patent No. 6,746,510: Processing of Nanocrystalline Metallic Powders and Coatings Using the Polyol Process, Navy Case No. 82,810.//U.S. Patent No. 6,750,031: Displacement Assay on a Porous Membrane, Navy Case No. 77,298.//U.S. Patent No. 6,756,470: Oligomeric Hydroxy Arylether Phthalonitiles and Synthesis Thereof, Navy Case No. 83,013.//U.S. Patent No. 6,763,271: Tracking Sustained Chaos, Navy Case No. 80,021.//U.S. Patent No. 6,764,561: Palladium-boron Alloys and Methods for Making and Using Such Alloys, Navy Case No. 79,391.//U.S. Patent No. 6,764,860: Ultrasonic Force Differentiation Assay, Navy Case No. 79,227.//U.S. Patent No. 6,764,861: Method of Making High Efficiency Magnetic Sensor for Magnetic Particles, Navy Case No. 79,585.//U.S. Patent No. 6,766,070: High Power Fiber Optic Modulator System and Method, Navy Case No. 80,245.//U.S. Patent No. 6,767,749: Method for Making Piezoelectric Resonator and Surface Acoustic Wave Device Using Hydrogen Implant Layer Splitting, Navy Case No. 79,598.//U.S. Patent No. 6,767,981: Thermoset and Ceramic Containing Silicon and Boron, Navy Case No. 77,642.//U.S. Patent No. 6,770,583: Transistion Metal Containing Ceramic with Metal Nanoparticles, Navy Case No. 77,712.//U.S. Patent No. 6,771,201: Hybrid Photonic Analog to Digital Converter using Superconducting Electronics, Navy Case No. 83,865.//U.S. Patent No. 6,771,798: Hyperspectral Visualization Extensible Workbench, Navy Case No. 79,087.//U.S. Patent No. 6,772,182: Signal Processing Method for Improving the Signal-to-noise Ratio of a Noise-dominated Channel and a Matched-phase Noise Filter for Implementing the Same, Navy Case No. 76,854.//U.S. Patent No. 6,773,865: Anti-charging Layer for Beam Lithography and Mask Fabrication, Navy Case No. 82,897.//U.S. Patent No. 6,777,753: CMOS Devices Hardened against Total Dose Radiation Effects, Navy Case No. 79,812.//U.S. Patent No. 6,777,835: Electrical Power Cooling Technique, Navy Case No. 78,465.//U.S. Patent No. 6,777,937: Nuclear Quadrupole Resonance Method and Apparatus, Navy Case No. 82,481.//U.S. Patent No. 6,780,307: Ion Selective Electrodes for Direct Organic Drug Analysis in Saliva, Sweat, and Surface Wipes, Navy Case No. 83,326.//U.S. Patent No. 6,784,259: High Temperature Elastomers from Linear Poly (silarylene-siloxane-acetylene), Navy Case No. 84,545.//U.S. Patent No. 6,784,270: Polymer Containing Borate and Alkynyl Groups, Navy Case No. 77,641.//U.S. Patent No. 6,787,615: Synthesis of Oligomeric Poly(silarylene-siloxane-acetylene)'s and their Conversion to High Temperature Plastics, Elastomers, and Coatings, Navy Case No. 82,942.//U.S. Patent No. 6,787,882: Semiconductor Varactor Diode with Doped Heterojunction, Navy Case No. 80,070.//U.S. Patent No. 6,787,885: Low Temperature Hydrophobic Direct Wafer Bonding, Navy Case No. 83,684.//U.S. Patent No. 6,787,972: Piezoelectric Rotary Pump, Navy Case No. 82,332.//U.S. Patent No. 6,788,794: Thin, Lightweight Acoustic Actuator Tile, Navy Case No. 83,842.//U.S. Patent No. 6,800,913: Hybrid Hall Vector Magnetometer, Navy Case No. 80,025.//U.S. Patent No. 6,802,907: Removing Radar Absorbing Coatings, Navy Case No. 83,976.//U.S. Patent No. 6,803,208: Automated Epifluorescence Microscopy for Detection of Bacterial Contamination in Platelets, Navy Case No. 80,218.//U.S. Patent No. 6,803,598: Si-based Resonant Interband Tunneling Diodes and Method of Making Interband Tunneling Diodes, Navy Case No. 79,496.//U.S. Patent No. 6,805,918: Laser Forward Transfer of Rheological Systems, Navy Case No. 79,702.//U.S. Patent No. 6,806,721: Digital Envelope Detector, Navy Case No. 82,540.//U.S. Patent No. 6,807,343: Reconfigurable Optical Beamformer for Simplified Time Steered Arrays, Navy Case No. 82,546.//U.S. Patent No. 6,809,506: Corrosion Sensor Loudspeaker for Active Noise Control, Navy Case No. 79,597.//U.S. Patent No. 6,818,924: Pulsed Laser Deposition of Transparent Conducting Thin Films on Flexible Substrates, Navy Case No.80,122.//U.S. Patent No. 6,819,984: LOST 2—A Positioning System for Under Water Vessels, Navy Case No. 83,099.//U.S. Patent No. 6,820,230: Self Synchronous Scrambler Apparatus and Method for Use in Dense Wavelength Division Multiplexing, Navy Case No. 82,350.//U.S. Patent No. 6,824,776: Silica Mesoporous Aerogels Having Three-dimensional Nanoarchitecture with Colloidal Gold-protein Superstructures Nanoglued Therein, Navy Case No. 84,500.//U.S. Patent No. 6,826,223: Surface-emitting Photonic Crystal Distributed Feedback Laser Systems and Methods, Navy Case No. 84,107.//U.S. Patent No. 6,826,480: Similarity Transformation Method for Data Processing and Visualization, Navy Case No. 82,482.//U.S. Patent No. 6,830,728: Device and Method for Pneumatic Gas Sampling for Gas Sensors, Navy Case No. 82,338.//U.S. Patent No. 6,833,019: Microwave Assisted Continuous Synthesis of Nanocrystalline Powders and Coatings Using the Polyol Process, Navy Case No. 83,975.//U.S. Patent No. 6,833,027: Method of Manufacturing High Voltage Schottky Diamond Diodes with Low Boron Doping, Navy Case No. 83,260.//U.S. Patent No. 6,846,345: Synthesis of Metal Nanoparticle Compositions from Metallic and Ethynyl Compounds, Navy Case No. 83,778.//U.S. Patent No. 6,847,446: Chemical Analysis and Detection by Selective Adsorbent Sampling and Laser Induced Breakdown Spectroscopy, Navy Case No. 83,965.//U.S. Patent No. 6,847,449: Method and Apparatus for Reducing Speckle in Optical Coherence Tomography Images, Navy Case No. 83,094.//U.S. Patent No. 6,852,289: Methods and Apparatus for Determining Analytes in Various Matrices, Navy Case No. 82,575.//U.S. Patent No. 6,854,058: Low-interference Communications Device using Chaotic Signals, Navy Case No. 82,613.//U.S. Patent No. 6,856,520: Double Sided IGBT Phase Leg Architecture and Clocking Method for Reduced Turn on Loss, Navy Case No. 83,914.//U.S. Patent No. 6,858,372: Resist Composition With Enhanced X-ray and Electron Sensitivity, Navy Case No. 82,940.//U.S. Patent No. 6,861,914: Monolithic Vibration Isolation and an Ultra-High Q Mechanical Resonator, Navy Case No. 83,287.//U.S. Patent No. 6,862,387: Low-loss Compact Reflective Turns in Optical Waveguides, Navy Case No. 83,158.//U.S. Patent No. 6,867,281: Highly Conducting and Transparent Thin Films Formed from New Fluorinated Derivatives of 3,4-ethylenedioxythiophene, Navy Case No. 84,103.//U.S. Patent No. 6,867,444: Semiconductor Substrate Incorporating a Neutron Conversion Layer, Navy Case No. 84,785.//U.S. Patent No. 6,868,107: Method for Designing Photonic-crystal Distributed-feedback and Distributed Bragg-reflector Lasers, Navy Case No. 84,592.//U.S. Patent No. 6,869,784: Passivation of Nerve Agents by Surface Modified Enzymes Stabilized by Non-covalent Immobilization on Robust, Stable Particles, Navy Case No. 79,212.//U.S. Patent No. 6,873,893: Missile Warning and Protection System for Aircraft Platforms, Navy Case No. 82,499.//U.S. Patent No. 6,884,861: Metal Nanoparticle Thermoset and Carbon Compositions from Mixtures of Metallocene-aromatic-acetylene Compounds, Navy Case No. 82,591.//U.S. Patent No. 6,888,660: Magnetic Organic Light Emitting Device and Method for Modulating Electroluminescence Intensity, Navy Case No. 84,307.//U.S. Patent No. 6,890,233: Method of Making Low Gate Current Multilayer Emitter with Vertical Thin-film-edge Multilayer Emitter, Navy Case No. 79,853.//U.S. Patent No. 6,890,504: Polymeric and Carbon Compositions with Metal Nanoparticles, Navy Case No. 82,460.//U.S. Patent No. 6,900,633: Substance Detection by Nuclear Quardrupole Resonance using at Least Two Different Excitation Frequencies, Navy Case No. 82,977.//U.S. Patent No. 6,904,444: Pseudo-median Cascaded Canceller, Navy Case No. 82,774.//U.S. Patent No. 6,904,722: Elongated Truss Boom Structures for Space Applications, Navy Case No. 80,124 and any continuations, continuations-in-part divisionals or re-issues thereof.

ADDRESS: Requests for copies of the inventions cited should be directed to the Naval Research Laboratory, Code 1004, 4555 Overlook Avenue, SW., Washington, DC 20375-5320, and must include the Navy Case number.

FOR FURTHER INFORMATION CONTACT: Jane F. Kuhl, Head, Technology Transfer Office, NRL Code 1004, 4555 Overlook Avenue, SW., Washington, DC 20375-5320, telephone 202-767-3083. Due to temporary U.S. Postal Service delays, please fax 202-404-7920, e-mail: kuhl@utopia.nrl.navy.mil or use courier delivery to expedite response.

(Authority: 35 U.S.C. 207, 37 CFR part 404.)

Dated: August 3, 2005.
I.C. Le Moyne Jr.,
Lieutenant, Judge Advocate General's Corps, U.S. Navy, Alternate Federal Register Liaison Officer.

[FR Doc. 05-15805 Filed 8-9-05; 8:45 am]

BILLING CODE 3810-FF-P